DEPARTMENT OF COMMERCE

National Oceanic and Atmospheric Administration

Proposed Information Collection; Comment Request; Bait and Tackle Store Cost-Earnings Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 21, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Cliff Hutt, (301) 427-8588 or cliff.hutt@noaa.gov.

SUPPLEMENTARY INFORMATION:

I. Abstract

This request is for a new collection of information.

The objective of the survey is to collect information on the operational structure of bait and tackle stores that cater to marine recreational anglers. The survey will ask store owners to characterize and quantify their operational costs and sales revenues in addition to describing their clientele. As specified in the Magnuson-Stevenson Fishery Conservation and Management Act of 1996 (and reauthorized in 2007), National Marine Fisheries Service (NMFS) is required to enumerate the economic impacts of the policies it implements on fishing participants and coastal communities. The cost and earnings data collected in this survey will be used to estimate the economic contributions and impacts of bait and tackle stores regionally and nationwide.

II. Method of Collection

The primary data collection vehicle will be mail or internet-based surveys, but telephone and personal interviews may be employed to supplement and verify mail survey responses.

III. Data

OMB Control Number: None.

Form Number: None.

Type of Review: Regular submission (request for a new information collection).

Affected Public: Individual store owners and/or managers.

Estimated Number of Respondents: 2,500.

Estimated Time per Response: 30 minutes.

Estimated Total Annual Burden Hours: 1,250.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 17, 2013.
Gwellnar Banks,
Management Analyst, Office of the Chief Information Officer.

[FR Doc. 2013-30456 Filed 12-20-13; 8:45 am]

BILLING CODE 3510-22-P